DEPARTMENT OF LABOR

Employment and Training Administration

[Docket No. TA-W-38,784]

Schlessinger Industries, et al.; Notice of Negative Determination Regarding Application for Reconsideration

By application postmarked May 21, 2001, the petitioners requested administrative reconsideration of the Department's negative determination regarding eligibility to apply for Trade Adjustment Assistance (TAA), applicable to workers and former workers of the subject firm. The denial notice was signed on April 23, 2001, and published in the Federal Register on May 9, 2001 (66 FR 23733).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The negative determination issued by the Department on behalf of the workers of the subject firm in Ridgefield, New Jersey, was based on the finding that the “contributed importantly” test of the worker group eligibility requirements of Section 222 of the Trade Act of 1974 was not met for workers at Joseph L. Schlessinger, T/A Schlessinger Industries, Ridgefield Machine, Inc., and P&G Machinery Repair Corp., Ridgefield, New Jersey producing parts for Schiffli Embroidery Machines. The “contributed importantly” test is generally demonstrated through a survey of the workers' firm's customers. The Department of Labor surveyed the major customers of the subject firm regarding their purchases of Schiffli Embroidery Machine parts. There were no company or customer imports of parts for embroidery machines.

The petitioner asserts that the customers are not running the machines, but they are selling them to foreign countries. Petitioners also attached a “Spare Parts of Embroidery Lace Machine.” The petition investigation, however, revealed that the major customers of the subject firm do not import products like or directly competitive with that which was produced in Ridgefield, New Jersey.

The petitioner adds that another firm, Swiss Maid, Inc., was sold at a bankruptcy sale because Champion went to Mexico. The Department notes that Swiss Maid, Inc., has no relevance in this case.

Conclusion

After review of the application and investigative findings, I conclude that there has been no error or misinterpretation of the law or of the facts which would justify reconsideration of the Department of Labor's prior decision. Accordingly, the application is denied.

Signed at Washington, DC, this 1st day of August 2001.
Edward A. Tomchick,
Director, Division of Trade Adjustment Assistance.

[FR Doc. 01-20547 Filed 8-14-01; 8:45 am]

BILLING CODE 4510-30-M